DEPARTMENT OF HOMELAND SECURITY

Federal Emergency Management Agency

[Docket ID FEMA-2020-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of June 5, 2020 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Mobile County, Alabama and Incorporated Areas
Docket No.: FEMA-B-1823 and FEMA-B-1921
City of Bayou La Batre | City Hall, 13785 South Wintzell Avenue, Bayou La Batre, AL 36509.
City of Chickasaw | City Hall, 224 North Craft Highway, Chickasaw, AL 36611.
City of Citronelle | City Hall, 19135 South Main Street, Citronelle, AL 36522.
City of Creola | City Hall, 9615 Old Highway 43, Creola, AL 36525.
City of Mobile | City Hall, Engineering Department, 205 Government Street, Mobile, AL 36644.
City of Prichard | City Hall, 216 East Prichard Avenue, Prichard, AL 36610.
City of Saraland | Building Department, 933 Saraland Boulevard South, Saraland, AL 36571.
City of Satsuma | City Hall, 5464 Old Highway 43, Satsuma, AL 36572.
City of Semmes | City Hall, 7875 Moffett Road, Suite F, Semmes, AL 36575.
Town of Dauphin Island | Town Hall, 1011 Bienville Boulevard, Dauphin Island, AL 36528.
Town of Mount Vernon | Town Hall, 1565 Boyles Avenue, Mount Vernon, AL 36560.
Unincorporated Areas of Mobile County | Mobile County Department of Public Works, Engineering Department, Government Plaza, 205 Government Street, Mobile, AL 36644.
Saline County, Arkansas and Incorporated Areas
Docket No.: FEMA-B-1663 and FEMA-B-1903
City of Alexander | Municipal Complex, 15605 Alexander Road, Alexander, AR 72002.
City of Benton | Municipal Complex, 114 South East Street, Benton, AR 72015.
City of Bryant | Central Public Safety Facility, 312 Roya Lane, Bryant, AR 72022.
City of Haskell | Haskell City Hall, 2520 Highway 229, Benton, AR 72015.
City of Shannon Hills | City Hall, 10401 High Road East, Shannon Hills, AR 72103.
City of Traskwood | Community Center, 212 Main Street, Traskwood, AR 72167.
Town of Bauxite | City Hall, 6055 Stanley Circle, Bauxite, AR 72011.
Unincorporated Areas of Saline County | Saline County Complex, 215 North Main Street, Suite 7, Benton, AR 72015.
Pasco County, Florida and Incorporated Areas
Docket No.: FEMA-B-1905
City of New Port Richey | City Hall, 5919 Main Street, New Port Richey, FL 34652.
City of Port Richey | City Hall, Planning Department, 6333 Ridge Road, Port Richey, FL 34668.
Unincorporated Areas of Pasco County | Pasco County Building Construction Services Department, 8731 Citizens Drive, Suite 230, New Port Richey, FL 34654.
Sumter County, Florida and Incorporated Areas
Docket No.: FEMA-B-1823
City of Center Hill | City Hall, 94 South Virginia Avenue, Center Hill, FL 33514.
City of Webster | City Hall, 85 East Central Avenue, Webster, FL 33597.
City of Wildwood | Development Services Department, 100 North Main Street, Wildwood, FL 34785.
Unincorporated Areas of Sumter County | Sumter County Development Services Department, 7375 Powell Road, Suite 115, Wildwood, FL 34785.
Cerro Gordo County, Iowa and Incorporated Areas
Docket No.: FEMA-B-1864
City of Clear Lake | Public Works Office, 1419 2nd Avenue South, Clear Lake, IA 50428.
City of Dougherty | City Hall, 81 East Patrick Street, Dougherty, IA 50433.
City of Mason City | City Hall, 10 1st Street Northwest, Mason City, IA 50401.
City of Meservey | City Hall, 428 1st Street, Meservey, IA 50457.
City of Plymouth | City Hall, 616 Broad Street, Plymouth, IA 50464.
City of Rock Falls | City Hall, 3 South Nottingham Street, Rock Falls, IA 50467.
City of Rockwell | City Hall, 114 3rd Street North, Rockwell, IA 50469.
City of Swaledale | City Office, 506 Main Street, Swaledale, IA 50477.
City of Thornton | City Hall, 404 Main Street, Thornton, IA 50479.
City of Ventura | City Hall, 101 Sena Street, Ventura, IA 50482.
Unincorporated Areas of Cerro Gordo County | Cerro Gordo County Courthouse, 220 Northwest Washington Avenue, Mason City, IA 50401.
Mitchell County, Iowa and Incorporated Areas
Docket No.: FEMA-B-1869
City of Carpenter | City Hall, 506 William Street, Carpenter, IA 50426.
City of McIntire | City Hall, 310 Main Street, McIntire, IA 50455.
City of Mitchell | City Hall, 125 East Van Buren Street, Mitchell, IA 50461.
City of Orchard | City Hall Office, 202 Main Street, Orchard, IA 50460.
City of Osage | City Hall, 806 Main Street, Osage, IA 50461.
City of Stacyville | City Hall, 115 South Broad Street, Stacyville, IA 50476.
City of St. Ansgar | City Hall, 111 South Mitchell Street, St. Ansgar, IA 50472.
Unincorporated Areas of Mitchell County | Mitchell County Courthouse, 212 South 5th Street, Osage, IA 50461.
Crittenden County, Kentucky and Incorporated Areas
Docket No.: FEMA-B-1709 and FEMA-B-1915
Unincorporated Areas of Crittenden County | Crittenden County Courthouse, Clerk's Office, 107 South Main Street, Suite 203, Marion, KY 42064.
Franklin County, Missouri and Incorporated Areas
Docket No.: FEMA-B-1914
City of Pacific | City Hall, 300 Hoven Drive, Pacific, MO 63069.
City of St. Clair | City Hall, #1 Paul Parks Drive, St. Clair, MO 63077.
City of Union | City Hall, 500 East Locust Street, Union, MO 63084.
Unincorporated Areas of Franklin County | Franklin County Office, 400 East Locust Street, Union, MO 63084.
Village of Miramiguoa Park | Franklin County Office, 400 East Locust Street, Union, MO 63084.
Washington County, Missouri and Incorporated Areas
Docket No.: FEMA-B-1914
City of Irondale | City Hall, 110 South Oak Street, Irondale, MO 63648.
City of Potosi | City Hall, 121 East High Street, Potosi, MO 63664.
Unincorporated Areas of Washington County | Washington County Courthouse, 102 North Missouri Street, Potosi, MO 63664.
Village of Caledonia | Village Hall, 130 Webster Road, Caledonia, MO 63631.
Village of Mineral Point | Village Hall, 702 State Street, Mineral Point, MO 63660.
Burt County, Nebraska and Incorporated Areas
Docket No.: FEMA-B-1920
City of Lyons | City Office, 335 Main Street, Lyons, NE 68038.
City of Oakland | City Auditorium, 401 North Oakland Avenue, Oakland, NE 68045.
City of Tekamah | Tekamah Auditorium, 1315 K Street, Tekamah, NE 68061.
Omaha Tribe of Nebraska | Omaha Indian Tribe, 100 Main Street, Macy, NE 68039.
Unincorporated Areas of Burt County | Burt County Courthouse, 111 North 13th Street, Tekamah, NE 68061.
Village of Craig | Village Office, 196 North Main Street, Craig, NE 68019.
Village of Decatur | Village Office, 913 South Broadway, Decatur, NE 68020.
Village of Herman | Village Office, 504 Main Street, Herman, NE 68029.
Miami County, Ohio and Incorporated Areas
Docket Nos.: FEMA-B-1720 and FEMA-B-1908
City of Piqua | City Hall, 201 West Water Street, Piqua, OH 45356.
City of Troy | City Hall, 100 South Market Street, Troy, OH 45373.
Unincorporated Areas of Miami County | Miami County Safety Building, 201 West Main Street, Troy, OH 45373.
Lane County, Oregon and Incorporated Areas
Docket No.: FEMA-B-1857
City of Dunes City | Dunes City Hall, 82877 Spruce Street, Westlake, OR 97493.
City of Florence | City Hall, 250 Highway 101, Florence, OR 97439.
Unincorporated Areas of Lane County | Lane County Customer Service Center, 3050 North Delta Highway, Eugene, OR 97408.

[FR Doc. 2020-00814 Filed 1-17-20; 8:45 am]

BILLING CODE 9110-12-P